DEPARTMENT OF AGRICULTURE

Animal and Plant Health Inspection Service

9 CFR Part 93

[Docket No. 01-121-1]

Limited Ports of Entry for Pet Birds, Performing or Theatrical Birds, and Poultry and Poultry Products

AGENCY: Animal and Plant Health Inspection Service, USDA.

ACTION: Direct final rule.

SUMMARY: We are amending the regulations regarding ports designated for the importation of pet birds, performing or theatrical birds, and poultry and poultry products by removing Boston, MA, from the lists of limited ports of entry. Very few of these animals or products are imported through the port of Boston, MA, as importers most often use other limited ports of entry to bring these animals and products into the United States. This action will update the regulations by removing an underutilized port from the lists.

DATES: This rule will be effective on April 15, 2002 unless we receive written adverse comments or written notice of intent to submit adverse comments that are postmarked, delivered, or e-mailed by March 14, 2002.

ADDRESSES: You may submit comments or notice of intent to submit adverse comments by postal mail/commercial delivery or by e-mail. If you use postal mail/commercial delivery, please send four copies (an original and three copies) to: Docket No. 01-121-1, Regulatory Analysis and Development, PPD, APHIS, Station 3C71, 4700 River Road Unit 118, Riverdale, MD 20737-1238. Please state that your comment refers to Docket No. 01-121-1. If you use e-mail, address your comment to regulations@aphis.usda.gov. Your comment must be contained in the body of your message; do not send attached files. Please include your name and address in your message and “Docket No. 01-121-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Sara Kaman, Senior Staff Veterinarian, Technical Trade Services, National Center for Import and Export, VS, APHIS, 4700 River Road Unit 39, Riverdale, MD 20737-1231; (301) 734-8364.

SUPPLEMENTARY INFORMATION:

Background

The regulations in 9 CFR part 93, “Importation of Certain Animals, Birds, and Poultry, and Certain Animal, Bird, and Poultry Products; Requirements for Means of Conveyance and Shipping Containers” (referred to below as the regulations), prescribe, among other things, conditions for importing pet birds, performing birds or theatrical birds, and poultry and poultry products into the United States. Section 93.102(d) contains a list of limited ports of entry for pet birds imported into the United States under the provisions of § 93.101(c)(1) or § 93.101(c)(2) and for performing or theatrical birds imported under the provisions of § 93.101(f). Section 93.203(d) contains a list of limited ports of entry that are designated as having inspection facilities for the entry of poultry and poultry products such as poultry test specimens, or hatching eggs and day-old chicks which do not appear to require restraint and holding inspection facilities.

This rule will amend § 93.102(d) and § 92.203(d) in accordance with the procedures explained below under “Dates.” The amendments will remove Boston, MA, from both lists of limited ports of entry. Very few pet birds, performing birds, theatrical birds, poultry, or poultry products are currently imported through the port of Boston, MA. Importers are opting to use other limited ports of entry to bring these commodities into the United States, so we do not believe that removing Boston, MA, as a limited port for the entry of pet birds, performing or theatrical birds, and poultry and poultry products will have any negative effects on U.S. importers of these animals and products.

Dates

We are publishing this rule without a prior proposal because we view this action as noncontroversial and anticipate no adverse public comment. This rule will be effective, as published in this document, on April 15, 2002, unless we receive written adverse comments or written notice of intent to submit adverse comments that are postmarked, delivered, or e-mailed by March 14, 2002.

Adverse comments are comments that suggest the rule should not be adopted or that suggest the rule should be changed.

If we receive written adverse comments or written notice of intent to submit adverse comments, we will publish a document in the Federal Register withdrawing this rule before the effective date. We will then publish a proposed rule for public comment.

As discussed above, if we receive no written adverse comments or written notice of intent to submit adverse comments that are postmarked, delivered, or e-mailed within 30 days of publication of this direct final rule, this direct final rule will become effective 60 days following its publication. We will publish a document in the Federal Register, before the effective date of this direct final rule, confirming that it is effective on the date indicated in this document.

Executive Order 12866 and Regulatory Flexibility Act

This rule has been reviewed under Executive Order 12866. For this action, the Office of Management and Budget has waived its review process required by Executive Order 12866.

This rule will remove Boston, MA, as a limited port of entry for the importation into the United States of pet birds, performing or theatrical birds, and poultry and poultry products. Very few of these animals or products are imported through the port of Boston, MA, as importers most often use other limited ports of entry to bring these animals and products into the United States. Therefore, we expect that this action will have no economic impact on any entities, large or small.

Under these circumstances, the Administrator of the Animal and Plant Health Inspection Service has determined that this action will not have a significant economic impact on a substantial number of small entities.

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no information collection or recordkeeping requirements under the Paperwork Reduction Act of 1995 (44 U.S.C. 3501 et seq.).

List of Subjects in 9 CFR Part 93

Animal diseases, Imports, Livestock, Poultry and poultry products, Quarantine, Reporting and recordkeeping requirements.

Accordingly, 9 CFR part 93 is amended as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622; 19 U.S.C. 1306; 21 U.S.C. 102-105, 111, 114a, 134a, 134b, 134c, 134d, 134f, 136, and 136a; 31 U.S.C. 9701; 7 CFR 2.22, 2.80, and 371.4.

§ 93.102 [Amended]

2. In § 93.102, paragraph (d) is amended by removing the words “Boston, MA;”.

§ 93.203 [Amended]

3. In § 93.203, paragraph (d) is amended by removing the words “Boston, Massachusetts;”.

Done in Washington, DC, this 6th day of February 2002.
W. Ron DeHaven,
Acting Administrator, Animal and Plant Health Inspection Service.

[FR Doc. 02-3343 Filed 2-11-02; 8:45 am]

BILLING CODE 3410-34-P